DEPARTMENT OF COMMERCE

National Oceanic and Atmospheric Administration

[I.D. 112700A]

Marine Mammals; Permits

AGENCY: National Marine Fisheries Service (NMFS), National Oceanic and Atmospheric Administration (NOAA), Commerce.

ACTION: Receipt of application for a scientific research permit (605-1607); receipt of application to amend a scientific research permit (782-1446).

SUMMARY: Notice is hereby given of the following actions regarding permits for takes of marine mammal species for the purposes of scientific research:

NMFS has received a permit application from Mason T. Weinrich, Whale Center of New England, P.O. Box 159, Gloucester, Massachusetts 01930-0159; NMFS has received a request to amend Permit No. 782-1446 from the National Marine Mammal Laboratory, National Marine Fisheries Service, NOAA, 7600 Sand Point Way, NE, BIN C15700, Bldg. 1, Seattle, WA 98115-0070.

DATES: Written or telefaxed comments on the new application and amendment request must be received on or before January 26, 2001.

ADDRESSES: The application, amendment request and related documents are available for review upon written request or by appointment in the following offices:

For permit 782-1446: Northwest Region, NMFS, 7600 Sand Point Way NE, BIN C15700, Bldg. 1, Seattle, WA 98115-0700; phone (206)526-6150; fax (206)526-6426;

For permit 782-1446: Southwest Region, NMFS, 501 West Ocean Blvd., Suite 4200, Long Beach, CA 90802-4213; phone (562)980-4001; fax (562)980-4018; and,

For permit 605-1607: Northeast Region, NMFS, One Blackburn Drive, Gloucester, MA 01930-2298; phone (508)281-9250; fax (508)281-9371.

All documents may also be requested from the Permits and Documentation Division, Office of Protected Resources, NMFS, 1315 East-West Highway, Room 13130, Silver Spring, MD 20910; phone (301)713-2289; fax (301)713-0376.

FOR FURTHER INFORMATION CONTACT: Ruth Johnson or Tammy Adams, 301/713-2289.

SUPPLEMENTARY INFORMATION: The subject permit and amendment is requested under the authority of the Marine Mammal Protection Act of 1972, as amended (MMPA; 16 U.S.C. 1361 et seq.), the Regulations Governing the Taking and Importing of Marine Mammals (50 CFR part 216), the Endangered Species Act of 1973, as amended (ESA; 16 U.S.C. 1531 et seq.)and the regulations governing the taking, importing, and exporting of endangered and threatened species (50 CFR 222-227).

Species Covered in This Notice

The following endangered and threatened marine mammal species are covered in this notice:

Humpback whale (Megaptera novaeangliae),

Fin whale (Balaenoptera physalus),

Sei whale (Balaenoptera borealis), and

North Atlantic right whale (Eubalaena glacialis)

New Applications Received

File No. 605-1607

Mason T. Weinrich, Whale Center of New England, proposes to assess the health, status and trends of endangered populations of humpback whale (Megaptera novaeangliae), fin whale (Balaenoptera physalus), sei whale (Balaenoptera borealis), and North Atlantic right whale (Eubalaena glacialis) off the U.S. Atlantic coast from southern Maine to northern Florida. The applicant proposes to annually take, by close approach, a maximum of 400 humpback whales, 250 fin whales, 50 sei whales, and 50 North Atlantic right whales over a 5-year period. These takes will be used to collect photographs for identifying individuals from all species (minimum approach of 100 feet (30 meters)), for collecting information on the prey densities around humpback, fin and sei whales (minimum approach of 50-100 ft (15-30 m)), for collecting biopsy dart samples from humpback and fin whales (minimum approach of 30-70 ft (9-21 m)), and for attaching suction-cup time-depth recorder and VHF tags to humpback and fin whales (minimum approach of 15-20 ft (5-6 m)). For biopsy sampling, no more than three attempts will be made per whale and for suction-cup tag attachment, no more than two attempts will be made per whale.

Amendment Requests Received

Permit No. 782-1446

The National Marine Mammal Laboratory has requested an amendment (no. 3) to scientific research permit no. 782-1446, issued on May 18, 1998 (63 FR 27265). Permit no. 782-1446 authorizes the permit holder to conduct aerial, ground, and vessel surveys annually for stock assessment of harbor seals, California sea lions, Steller sea lions and northern elephant seals. The permit holder requests authorization to increase the number of California sea lions captured, local or gas anesthetized, instrumented and sampled for a multi-disciplinary study of the role of persistent organochlorine pollutants (OPR) and herpes virus in the development of cancer in California sea lions. California sea lions of both sexes and ages 0 through 5 years are proposed to be taken. Additionally, branded and un-branded 6-month old California sea lions of both sexes are proposed to be captured, sampled and photographed as part of a study to evaluate the condition of branded pups.

In compliance with the National Environmental Policy Act of 1969 (42 U.S.C. 4321 et seq.), an initial determination has been made that the activities proposed are categorically excluded from the requirement to prepare an environmental assessment or environmental impact statement.

Concurrent with the publication of this notice in the Federal Register, NMFS is forwarding copies of the application and amendment request to the Marine Mammal Commission and its Committee of Scientific Advisors.

Written comments or requests for a public hearing on this application should be mailed to the Chief, Permits and Documentation Division, F/PR1, Office of Protected Resources, NMFS, 1315 East-West Highway, Room 13705, Silver Spring, MD 20910. Those individuals requesting a hearing should set forth the specific reasons why a hearing on this particular request would be appropriate.

Dated: December 20, 2000.
Ann D. Terbush,
Chief, Permits and Documentation Division, Office of Protected Resources, National Marine Fisheries Service.

[FR Doc. 00-33002 Filed 12-26-00; 8:45 am]

BILLING CODE: 3510-22-S